DEPARTMENT OF HEALTH AND HUMAN SERVICES

Administration for Children and Families

Notice of Request for Nominations for Members to the Secretary's Advisory Committee on Head Start Accountability and Educational Performance Measures

AGENCY: Administration on Children, Youth and Families, ACF, DHHS.

ACTION: Notice.

SUMMARY: This request is being published in accordance with section 9(a)(2) of the Federal Advisory Committee Act. Notice is hereby given that the Secretary of the Department of Health and Human Services seeks qualified individuals to become members of the Advisory Committee on Head Start Accountability and Educational Performance Measures. The Secretary seeks authorities knowledgeable and expert in the fields of childhood development and psychometrics, assessment of child progress and evaluation of program service delivery.

Individuals have dirty (30) days from the date of publication to submit nominations. Nominations will only be accepted electronically, although individuals for whom this procedure introduces a barrier may make alternative arrangements through the contact information below. To place a nomination, please submit a cover letter summarizing areas of expertise, curriculum vita, and contact information (including an address, phone number and e-mail address) to Carol Whitten, e-mail address: cwhitten@acf.hhs.gov. Materials should be submitted using standard word processing or desktop publishing software to facilitate their use.

FOR FURTHER INFORMATION CONTACT: Carol Whitten, Head Start Bureau, e-mail cwhitten@acf.hhs.gov or (202) 205-7359.

SUPPLEMENTARY INFORMATION: In accordance with section 9(a)(2) of the Federal Advisory Committee Act (Pub. L. 92-463), title 41 of the Code of Federal Regulations, section 102-3.65 and the General Services Administration (GSA) rule on Federal Advisory Committee Management, the Secretary of the Department of Health and Human Services (HHS) has determined that the establishment of the Advisory Committee on Head Start Accountability and Educational Performance Measures (the Committee) is in the public interest in connection with supporting the school readiness of low-income children and the overall effectiveness and purpose of the Federal Head Start program.

The purpose of the Committee is to help assess the progress in developing and implementing the Head Start National Reporting System (NRS) and provide recommendations for integrating the NRS with other ongoing assessments of the effectiveness of the program. The Committee will work in coordination with the existing Technical Work Group (TWG), which helped develop the NRS, and make recommendations for how the NRS can be included in the broader assessment framework found in the Family and Child Experiences Survey (FACES), the national Head Start Impact Study, Head Start's Performance Based Outcome System, and the evaluation of the Early Head Start program.

The Committee shall consist of not more than ten (10) members including the Chair and Co-Chair. Appointments shall be made by the Secretary from authorities knowledgeable and expert in the fields of childhood development and psychometrics, assessment of child progress and evaluation of program service delivery. The Department will give close attention to equitable geographic distribution and to minority and gender representation in making appointments to the Committee, so long as the effectiveness of the Committee is not diminished. Individuals must have experience with large scale survey studies, large scale program evaluations, and be recognized authorities in their field of expertise. Field of expertise is not limited, per se, but individuals with expertise in areas of child development and assessment that are pertinent to documenting children's school readiness outcomes will make the strongest possible contributions to the work of the Committee. The Committee shall meet three times unless, after consultation with the Chair or Co-Chair, the Secretary determines that additional meetings are necessary to fulfill the purpose of the Committee. All meetings shall be at the call of the Chair or Co-Chair. An official of the Federal Government shall be present at all meetings. Meetings shall be open to the public. Advance notice of all meetings shall be given to the public. Meetings shall be conducted and records of proceedings shall be kept in accordance with all applicable laws and departmental regulations.

Unless renewed by appropriate action prior to its expiration, the Secretary's Advisory Committee on Head Start Accountability and Educational Performance Measures shall terminate on February 27, 2006.

Dated: April 23, 2004.
Wade F. Horn,
Assistant Secretary for Children and Families.

[FR Doc. 04-10081 Filed 5-3-04; 8:45 am]

BILLING CODE 4184-01-M